DEPARTMENT OF STATE

[Public Notice 5149]

Bureau of Western Hemisphere Affairs; Office of Canadian Affairs; International Border Crossings

AGENCY: Department of State.

ACTION: Notice of Interpretation.

SUMMARY: Executive Order 11423, of August 16, 1968, as amended, authorizes the Secretary of State to issue Presidential permits for the construction of facilities crossing the international borders of the United States, including, but not limited to, bridges and tunnels connecting the United States with Canada or Mexico. Section 2(a) of Executive Order 13337, dated April 30, 2004, amended Executive Order 11423, inter alia, by authorizing the Secretary of State to issue Presidential permits for “border crossings for land transportation, including motor or rail vehicles, to or from a foreign country, whether or not in conjunction with the facilities” to which Executive Order 11423 previously applied. This new language is found in section 1(a)(vi) of Executive Order 11423, as amended.

In seeking to provide guidance to the public concerning its exercise of this new permitting authority, the Department has determined, after giving the matter careful consideration, that the new “land border crossing” language of section 1(a)(vi) will apply to all new crossings of the international border as well as to all substantial modifications of existing crossings of the international border. The Department has also determined to assemble an interagency working group, consisting of relevant State Department personnel and personnel from other interested federal agencies, to prepare, as may be appropriate, further guidance on application of this interpretation of section 1(a)(vi) in the future. The decision document is quoted in full below, under SUPPLEMENTARY INFORMATION.

FOR FURTHER INFORMATION CONTACT: Mr. Terry Breese, Director, WHA/CAN, U.S. Department of State, Washington, DC 20520. (202) 647-2170.

SUPPLEMENTARY INFORMATION: By virtue of the authority vested in me pursuant to Department of State Delegation No. 277 from the Secretary of State dated March 3, 2005, to exercise, to the extent authorized by law, all authorities vested in the Under Secretary of State for Economic, Business and Agricultural Affairs, including those authorities under Executive Order 11423, as amended, including the amendments to Executive Order 11423 contained in Executive Order 13337 of April 30, 2004, and Department of State Delegation No. 118-1 of April 11, 1973, I hereby determine that section 1(a)(vi) of Executive Order 11423, as amended, concerning “border crossings for land transportation, including motor or rail vehicles, to or from a foreign country, whether or not in conjunction with the facilities” identified elsewhere in section 1(a), should be interpreted as applying to all new border crossings for land transportation and all substantial modifications to existing border crossings for land transportation, between the United States and Canada or Mexico. I also determine that relevant officials at the Department of State should assemble an interagency working group, consisting of relevant Department personnel and personnel from other interested federal agencies, to prepare, as may be appropriate, guidance on application of this interpretation in the future.

This determination shall be published in the Federal Register.

Dated: August 2, 2005.
Earl Anthony Wayne,
Assistant Secretary, Department of State.

[FR Doc. 05-15631 Filed 8-5-05; 8:45 am]

BILLING CODE 4710-29-P